DEPARTMENT OF AGRICULTURE

Animal and Plant Health Inspection Service

7 CFR Part 301

[Docket No. APHIS-2015-0016]

Amendment of Asian Longhorned Beetle Quarantine Areas in Massachusetts and New York

AGENCY: Animal and Plant Health Inspection Service, USDA.

ACTION: Affirmation of interim rule as final rule.

SUMMARY: We are adopting as a final rule, without change, an interim rule that amended the Asian longhorned beetle (ALB) regulations by removing the boroughs of Manhattan and Staten Island in New York City, as well as the counties of Suffolk and Norfolk in the State of Massachusetts, from the list of quarantined areas for ALB. The interim rule was necessary to relieve restrictions on the movement of regulated articles from areas no longer under ALB quarantine. As a result of the interim rule, movement of such articles from areas no longer under quarantine can proceed while preventing the artificial spread of ALB from infested areas to noninfested areas of the United States.

DATES: Effective on November 19, 2015, we are adopting as a final rule the interim rule published at 80 FR 48001-48002 on August 11, 2015.

FOR FURTHER INFORMATION CONTACT: Ms. Claudia Ferguson, Senior Regulatory Policy Specialist, Regulatory Coordination and Compliance, Imports, Regulations, and Manuals, PPQ, APHIS, 4700 River Road Unit 133, Riverdale, MD 20737-1231; (301) 851-2352; Claudia.Ferguson@aphis.usda.gov.

SUPPLEMENTARY INFORMATION:

Background

In an interim rule ¹ effective and published in the Federal Register on August 11, 2015 (80 FR 48001-48002, Docket No. APHIS-2015-0016), we amended the Asian longhorned beetle (ALB) regulations in 7 CFR part 301 by removing the boroughs of Manhattan and Staten Island in New York City, as well as the counties of Suffolk and Norfolk in the State of Massachusetts, from the list of quarantined areas for ALB.

¹ To view the interim rule, go to http://www.regulations.gov/#!docketDetail;D=APHIS-2015-0016.

Comments on the interim rule were required to be received on or before September 10, 2015. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 80 FR 48001-48002 on August 11, 2015.

Done in Washington, DC, this 12th day of November 2015.
Kevin Shea,
Administrator, Animal and Plant Health Inspection Service.

[FR Doc. 2015-29542 Filed 11-18-15; 8:45 am]

BILLING CODE 3410-34-P